DEPARTMENT OF TREASURY

Internal Revenue Service

Open Meeting of the Information Reporting Program Advisory Committee

AGENCY: Internal Revenue Service (IRS), Treasury.

ACTION: Notice of Open Meeting of the Information Reporting Program Advisory Committee.

SUMMARY: In 1991 the IRS established the Information Reporting Program Advisory Committee (IRPAC) in response to a recommendation made by the United States Congress. The primary purpose of IRPAC is to provide an organized public forum for discussion of relevant information reporting issues between the officials of the IRS and representatives of the payer/practitioner community. IRPAC offers constructive observations about current or proposed policies, programs, and procedures and, when necessary, suggests ways to improve the operation of the Information Reporting Program (IRP).

There will be a meeting of IRPAC on Thursday, May 11, 2000. The meeting will be held in Room 3313 of the Internal Revenue Service Main Building, which is located at 1111 Constitution Avenue, NW., Washington, DC. A summarized version of the agenda along with a list of topics that are planned to be discussed are listed below.

Summarized Agenda for Meeting

9:00 Meeting Opens

11:30 Break for Lunch

1:00 Meeting Resumes

4:00 Meeting Adjourns

The topics that are planned to be covered are as follows:

(1) IRPAC Paper on Electronic Payee Statements

(2) IRPAC Paper on the Threshold for Reporting Interest on Canadian Deposit Accounts

(3) IRPAC Paper on Reporting Cancellation of Indebtedness Income

(4) IRS Update on the New Section 1441 Regulation

(5) IRPAC Paper on Expanding the Combined Federal/State Information Return Filing Program

(6) IRPAC Paper on Tax Certifications for Disregarded Entities

(7) IRPAC Update on IRPAC's Articles in the “SSA/IRS Reporter”

(8) IRS Update on Proposed Changes to Form W-2, Form 1099-DIV, and Form 1099-MISC

(9) IRS Update on Proposed Changes to the Form SS-8

(10) IRPAC Paper on Reporting the Revocation of a Roth IRA

(11) IRPAC Paper on Reporting Recharacterizations and Reconversions

(12) IRS Update on the Proposed Taxpayer Identification Number (TIN) Matching System

(13) IRS Update on the IRS/SSA Magnetic Media/Electronic Filing Seminars for 2000

Note: Last minute changes to these topics are possible and could prevent advance notice.

SUPPLEMENTARY INFORMATION: IRPAC currently reports to the National Director, Office of Specialty Taxes, who is the executive responsible for information reporting payer compliance. IRPAC is instrumental in providing advice to enhance the IRP Program. Increasing participation by external stakeholders in the planning and improvement of the tax system will help achieve the goals of increasing voluntary compliance, reducing burden, and improving customer service.

IRPAC is currently comprised of representatives from various segments of the information reporting payer/practitioner community. IRPAC members are not paid for their time or services, but consistent with Federal regulations, they are reimbursed for their travel and lodging expenses to attend two public meetings each year.

DATES: The meeting will be open to the public, and will be in a room that accommodates approximately 80 people, including members of IRPAC and IRS officials. Seats are available to members of the public on a first-come, first-served basis. In order to get your name on the building access list, notification of intent to attend this meeting must be made with Ms. Thomasine Matthews no later than Monday, May 8, 2000. Ms. Matthews can be reached by e-mail at thomasine.matthews@irs.gov, or by telephone at 202-622-4214. Notification of intent to attend should include your name, organization and phone number. If you leave this information for Ms. Matthews in a voice-mail message, please spell out all names.

A draft of the agenda will be available via e-mail or facsimile transmission the week prior to the meeting. Please call or e-mail Ms. Thomasine Matthews on or after Wednesday, May 3, 2000, to have a copy of the agenda faxed or e-mailed to you. Please note that a draft agenda will not be available until that date.

ADDRESSES: If you would like to have IRPAC consider a written statement at a future IRPAC meeting (not this upcoming meeting), please write to Ms. Kate LaBuda at the IRS, Office of Payer Compliance, OP:EX:ST:PC, Room 2013, 1111 Constitution Avenue, NW., Washington, DC 20224, or e-mail her at kate.labuda@irs.gov.

FOR FURTHER INFORMATION CONTACT: To get on the access list to attend this meeting, or to have a copy of the agenda faxed to you on or after May 3, 2000, please e-mail Ms. Thomasine Matthews at thomasine.matthews@irs.gov, or call her at 202-622-4214. For general information about IRPAC, please e-mail Ms. Kate LaBuda at kate.labuda@irs.gov or call her at 202-622-3404.

Dated: April 12, 2000.
Gwen Glaize,
Director, Office of Payer Compliance, Office of Examination.

[FR Doc. 00-9700 Filed 4-18-00; 8:45 am]

BILLING CODE 4830-01-U